DEPARTMENT OF STATE

[Public Notice: 10065]

60-Day Notice of Proposed Information Collection: Supplemental Questions for Visa Applicants

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 2, 2017.

ADDRESSES: You may submit comments by any of the following methods:

• Web: Persons with access to the Internet may comment on this notice by going to www.Regulations.gov. You can search for the document by entering “Docket Number: DOS-2017-0032” in the Search field. Then click the “Comment Now” button and complete the comment form.

• Email: PRA_BurdenComments@state.gov.

You must include the DS form number (if applicable), information collection title, and the OMB control number in any correspondence.

FOR FURTHER INFORMATION CONTACT: Direct requests for additional information regarding the collection listed in this notice, including requests for copies of the proposed collection instrument and supporting documents to PRA_BurdenComments@state.gov.

SUPPLEMENTARY INFORMATION: • Title of Information Collection: Supplemental Questions for Visa Applicants.

• OMB Control Number: 1405-0226.

• Type of Request: Extension of a Currently Approved Collection.

• Originating Office: Bureau of Consular Affairs, Visa Office (CA/VO).

• Form Number: DS-5535.

• Respondents: Certain immigrant and nonimmigrant visa applicants worldwide who have been determined to warrant additional scrutiny in connection with terrorism, national security-related, or other visa ineligibilities.

• Estimated Number of Respondents: 65,000.

• Estimated Number of Responses: 65,000.

• Average Time per Response: 60 minutes.

• Total Estimated Burden Time: 65,000 annual hours.

• Frequency: Once per respondent's application.

• Obligation To Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department proposes requesting the following information, if not already included in an application, from a subset of visa applicants worldwide, in order to more rigorously evaluate applicants for terrorism, national security-related, or other visa ineligibilities:

• Travel history during the last fifteen years, including source of funding for travel;

• Address history during the last fifteen years;

• Employment history during the last fifteen years;

• All passport numbers and country of issuance held by the applicant;

• Names and dates of birth for all siblings;

• Name and dates of birth for all children;

• Names and dates of birth for all current and former spouses, or civil or domestic partners;

• Social media platforms and identifiers, also known as handles, used during the last five years; and

• Phone numbers and email addresses used during the last five years.

Regarding travel history, applicants may be requested to provide details of their international or domestic (within their country of nationality) travel, if it appears to the consular officer that the applicant has been in an area while the area was under the operational control of a terrorist organization as defined in section 212(a)(3)(B)(vi) of the Immigration and Nationality Act, 8 U.S.C. 1182(a)(3)(B)(vi). Applicants may be asked to recount or explain the details of their travel, and when possible, provide supporting documentation.

This information collection continues implementation of the directive of the President, in the Memorandum for the Secretary of State, the Attorney General, the Secretary of Homeland Security of March 6, 2017, to implement additional protocols and procedures focused on “ensur[ing] the proper collection of all information necessary to rigorously evaluate all grounds of inadmissibility or deportability, or grounds for the denial of other immigration benefits.” Consular posts worldwide regularly engage with U.S. law enforcement and partners in the U.S. intelligence community to identify characteristics of applicant populations warranting increased scrutiny. The additional information collected will facilitate consular officer efforts to apply more rigorous evaluation of these applicants for visa ineligibilities. In accordance with existing authorities, visas may not be denied on the basis of race, religion, ethnicity, national origin, political views, gender, or sexual orientation.

In our emergency information collection request, we stated that relevant State Department officials estimate that 0.5% of U.S. visa applicants worldwide, or in the range of 65,000 individuals per annum, will present a threat profile, based on individual circumstances and information they provide, that will lead U.S. consular officers at posts around the world to conclude the applicant warrants enhanced screening for visa ineligibilities. At this time, this continues to represent the Department's best estimate. Given the short period since the collection's implementation, the data from consular posts at this time would not represent an accurate estimate of how many applicants might be subject to this collection annually. A lengthier period of post implementation will better inform this estimate, and the Department will update the estimate accordingly. An updated estimate that reflects post experience will be provided in the Department's 30 day notice.

Failure to provide requested information will not necessarily result in visa denial, if the consular officer determines the applicant has provided a credible explanation why he or she cannot answer a question or provide requested supporting documentation, such that the consular officer is able to conclude that the applicant has provided adequate information to determine the applicant's eligibility to receive the visa. The collection of social media platforms and identifiers will not be used to deny visas based on applicants' race, religion, ethnicity, national origin, political views, gender, or sexual orientation.

Methodology

Department of State consular officers at visa-adjudicating posts worldwide will ask the proposed additional questions to resolve an applicant's identity or to vet for terrorism, national security-related, or other visa ineligibilities when the consular officer determines that the circumstances of a visa applicant, a review of a visa application, or responses in a visa interview indicate a need for greater scrutiny. The additional questions may be sent electronically to the applicant or be presented orally or in writing at the time of the interview. In furtherance of this collection, consular officers are directed not to request user passwords; engage or interact with individual visa applicants on or through social media when conducting assessments of visa eligibility; not to violate or attempt to violate individual privacy settings or controls; and not to use social media or assess an individual's social media presence beyond established Department guidance. Consular staff are also directed in connection with this collection to take particular care to avoid collection of third-party information.

Edward Ramotowski,
Deputy Assistant Secretary, Bureau of Consular Affairs, Department of State.

[FR Doc. 2017-16343 Filed 8-2-17; 8:45 am]

BILLING CODE 4710-06-P